NUCLEAR REGULATORY COMMISSION

10 CFR Part 50

[Docket No. PRM-50-96; NRC-2011-0069]

Petition for Rulemaking Submitted by Thomas Popik

AGENCY: Nuclear Regulatory Commission.

ACTION: Petition for rulemaking; receipt and request for comment.

SUMMARY: The U.S. Nuclear Regulatory Commission (NRC) is publishing for public comment a notice of receipt for a petition for rulemaking (PRM), dated March 14, 2011, which was filed with the NRC by Thomas Popik. The petition was docketed by the NRC on March 15, 2011, and has been assigned Docket No. PRM-50-96. The petition requests that the NRC amend its regulations regarding the domestic licensing of special nuclear material to require production and utilization facilities licensed by the NRC to assure long-term cooling and unattended water makeup of spent fuel pools.

DATES: Submit comments by July 20, 2011. Comments received after this date will be considered if it is practical to do so, but the NRC is able to assure consideration only for comments received on or before this date.

ADDRESSES: Please include Docket ID NRC-2011-0069 in the subject line of your comments. For instructions on submitting comments and accessing documents related to this action, see “Submitting Comments and Accessing Information” in the SUPPLEMENTARY INFORMATION section of this document. You may submit comments by any one of the following methods:

• Federal rulemaking Web site: Go to http://www.regulations.gov and search for documents filed under Docket ID NRC-2011-0069. Address questions about NRC dockets to Carol Gallagher, telephone: 301-492-3668; e-mail: Carol.Gallagher@nrc.gov.

• Mail comments to: Secretary, U.S. Nuclear Regulatory Commission, Washington, DC 20555-0001, Attn: Rulemakings and Adjudications Staff.

• E-mail comments to: Rulemaking.Comments@nrc.gov. If you do not receive a reply e-mail confirming that we have received your comments, contact us directly at 301-415-1677.

• Hand deliver comments to: 11555 Rockville Pike, Rockville, Maryland 20852 between 7:30 a.m. and 4:15 p.m. during Federal workdays (telephone: 301-415-1677).

• Fax comments to: Secretary, U.S. Nuclear Regulatory Commission at 301-415-1101.

FOR FURTHER INFORMATION CONTACT: Cindy Bladey, Chief, Rules, Announcements, and Directives Branch, Division of Administrative Services, Office of Administration, U.S. Nuclear Regulatory Commission, Washington, DC 20555-0001, telephone: 301-492-3667, toll free: 800-368-5642, e-mail: Cindy.Bladey@nrc.gov.

SUPPLEMENTARY INFORMATION:

Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You can access publicly available documents related to this document using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available electronically in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov. The ADAMS Accession Nos. for this document and the incoming petition are ML110830730 and ML110750145, respectively.

• Federal Rulemaking Web site: Public comments and supporting materials related to this petition for rulemaking can be found at http://www.regulations.gov by searching on Docket ID NRC-2011-0069.

Petitioner

The NRC received a petition for rulemaking on March 14, 2011 (PRM-50-96). The petition was submitted by Mr. Thomas Popik on behalf of the Foundation for Resilient Societies (the Foundation). The petition states that the Foundation is an association within the U.S. with an interest in citizens' health and safety, and an interest [in ensuring] that large U.S. land areas do not become contaminated with nuclear radiation and, therefore, uninhabitable for hundreds of years. The NRC was unable to confirm the existence of the Foundation.¹ The NRC requires in 10 CFR 2.802(c)(2) that each petition for rulemaking “[s]tate clearly and concisely petitioner's grounds for an interest in the action requested.” The NRC has consistently interpreted this as requiring that the petitioner accurately identify itself, in part so that the NRC is able to evaluate the accuracy and weight to be given to any representations made by the petitioner in its petition. In light of the NRC's inability to confirm the Foundation as an actual organization, the NRC is treating Mr. Popik as the petitioner.²

¹ The original e-mail and petition submitted by Mr. Popik did not include any contact information for Mr. Popik or a mailing address for the Foundation. In response to an NRC inquiry, Mr. Popik provided a Nashua, New Hampshire mailing address for the Foundation (ML111080495). The NRC identified a Web site for the Foundation, which contains a news release on the petition, and a pdf file of the petition. The Web site provides no information describing the Foundation, its purpose or objectives, or the organizational structure of the Foundation. The only Foundation contact provided on the Web site is Mr. Popik. The NRC's search of the web did not disclose any information on the activities of the Foundation other than news articles about the Foundation's petition. The NRC was unable to identify the Foundation in a State of New Hampshire database of businesses and organizations registered in New Hampshire.

² If the NRC receives additional information sufficient to establish the Foundation as an entity independent of Mr. Popik, then the NRC will re-characterize the petitioner of PRM-50-96 as the Foundation, rather than Mr. Popik. Notice of any action in this regard will be placed on the http://www.regulations.gov Web site for this petition, and in the Federal Register notice of the NRC's resolution of PRM-50-96.

Background

Grounds for Action Requested

The petitioner is requesting that the NRC amend its regulations in Title 10 of the Code of Federal Regulations (10 CFR) Part 50 to address concerns about the effects of long-term commercial grid outage on spent fuel pool cooling and water makeup. The petitioner states that “in the event of a long-term loss of commercial grid power extending beyond a month, it is likely that water in spent fuel pools would heat up and boil off, fuel rods would become uncovered by water, zirconium cladding would catch fire, and large amounts of dangerous radionuclides would be released into the atmosphere.”

The petitioner states that “a primary rationale for this proposed amendment is a recently documented vulnerability of the North American power grids to severe space weather which could cause multiple-year power outages.” In addition, the petitioner states that “a government-sponsored study of second-order effects of commercial grid failure on petrochemical fuel and food supplies shows that any assumption of outside assistance to nuclear power plants, including resupply of diesel fuel and food, may not be valid.” The risks to the North American commercial grids from space weather and geomagnetic disturbance, and the effects of a commercial outage on the petrochemical fuel resupply and food and water supply are discussed in the petition.

The petition also expresses the petitioner's views on: (1) The necessity for the Department of Homeland Security to include in its National Security Guidelines a scenario for severe space weather and geomagnetic disturbance and the associated long-term and widespread commercial grid outage; (2) the August 1988 Oak Ridge National Laboratory (ORNL) and NRC Report ORNL/NRC/LTR-98/12, “Evaluation of the Reliability for the Offsite Power Supply as a Contributor to the Risk of Nuclear Plants”; (3) the regulatory actions after the 2003 northeastern blackout; (4) the necessity for the North American Electric Reliability Council to publish a reliability standard for geomagnetic disturbance; and (5) the role of other Government agencies in protecting “public health and safety in regard to geomagnetic disturbance.”

In addition, the petitioner discusses the NRC's probabilistic risk assessment (PRA) in NUREG-1738, “Technical Study of Spent Fuel Pool Accident Risk at Decommissioning Nuclear Power Plants,” February 2001, and proposes a “PRA to more precisely gauge the probability of zirconium fires at spent fuel pools due to geomagnetic disturbance and resulting long-term Loss of Outside Power (LOOP).” The petitioner stated that the purpose of the PRA is “to show that an amendment to the CFR is required.”

The Petition

The petitioner requests that the NRC amend its regulations in 10 CFR Part 50 to require licensees to provide reliable emergency systems to assure long-term cooling and water makeup for spent fuel pools using only onsite power sources. Specifically, the petitioner proposes amending 10 CFR Part 50 to require that the emergency systems be able to operate for a period of 2 years without human operator intervention and without offsite fuel resupply and that backup power systems for spent fuel pools be electrically isolated from other plant electrical systems during normal and emergency operation. In addition, the petitioner requests the NRC revise its requirements to state if weather-dependent power sources are used, sufficient water or power storage must be provided to maintain continual cooling during weather conditions which may temporarily constrict power generation.

Dated at Rockville, Maryland, this 2nd day of May 2011.
For the Nuclear Regulatory Commission.
Annette L. Vietti-Cook,
Secretary of the Commission.

[FR Doc. 2011-11112 Filed 5-5-11; 8:45 am]

BILLING CODE 7590-01-P